DEPARTMENT OF LABOR

Employment and Training Administration

DEPARTMENT OF EDUCATION

Office of Career, Technical, and Adult Education; Rehabilitation Services Administration; Agency Information Collection Activities; Comment Request; Workforce Innovation and Opportunity Act (WIOA) Common Performance Reporting

ACTION: Notice.

SUMMARY: The Department of Labor (DOL), Employment and Training Administration (ETA) and the Department of Education (ED) (jointly referred to as “the Departments”) are soliciting comments concerning a proposed extension for the authority to conduct the information collection request (ICR) titled, “Workforce Innovation and Opportunity Act (WIOA) Common Performance Reporting.” This comment request is part of continuing Departmental efforts to reduce paperwork and respondent burden in accordance with the Paperwork Reduction Act of 1995 (PRA), 44 U.S.C. 3501 et seq.

DATES: Consideration will be given to all written comments received by March 20, 2017.

ADDRESSES: Comments submitted in response to this notice should be submitted electronically through the Federal eRulemaking Portal at http://www.regulations.gov by selecting Docket ID number ETA-2017-0001 or via postal mail, commercial delivery, or hand delivery. A copy of the ICR with applicable supporting documentation; including a description of the likely respondents, proposed frequency of response, and estimated total burden may be obtained free of charge from http://www.regulations.gov or by contacting Karen Staha by telephone at 202-693-2917 (this is not a toll-free number) or by email at Staha.Karen@dol.gov. Individuals with hearing or speech impairments may access the telephone number above via TTY by calling the toll-free Federal Information Relay Service at 1-877-889-5627 (TTY/TDD). Fax: 202-693-2766.

Mail and hand delivery/courier: Send written comments to Karen Staha, Office of Policy Development and Research, Room N5641, Employment and Training Administration, U.S. Department of Labor, 200 Constitution Avenue NW., Washington, DC 20210. Due to security-related concerns, there may be a significant delay in the receipt of submissions by United States Mail. You must take this into consideration when preparing to meet the deadline for submitting comments.

Comments submitted in response to this comment request will become a matter of public record and will be summarized and included in the request for Office of Management and Budget (OMB) approval of the final ICR. In addition, comments regardless of the delivery method, will be posted without change on the http://www.regulations.gov Web site; consequently, the Departments recommend commenters not include personal information such as a Social Security Number, personal address, telephone number, email address, or confidential business information that they do not want made public. It is the responsibility of the commenter to determine what to include in the public record.

FOR FURTHER INFORMATION: Contact Karen Staha by telephone at 202-693-2917 (this is not a toll-free number) or by email at Staha.Karen@dol.gov.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The data collections in this ICR fulfill requirements in WIOA sec.116(d)(1) for the development of report templates for the State Performance Report for WIOA core programs, the Local Area Performance Report, and the Eligible Training Provider (ETP) Report. The Departments propose to amend the information collection by adding new information collection requirements for WIOA Statewide performance reporting. In particular, the Departments propose to add: (1) Data elements related to training program information to the ETP Performance Report, and (2) a new information collection requirement, i.e., an Annual Statewide Performance Report Narrative. This additional information would be helpful in the implementation and evaluation of the workforce development covered programs, and may include descriptions of such items as promising program practices, employer metrics, sector strategies, state evaluations, and rapid response activities. Also, a few adjustments made to the WIOA Annual Statewide Performance Report and Local Area Performance Report Template specifications that will align report specifications and the resulting values with the intent and requirements outlined in WIOA, and final rule. For example, the numerator specification of the Measurable Skill Gains Indicator was revised to ensure only a single gain per reporting period could be counted for each individual.

Section 116 of WIOA (29 U.S.C. 3141) requires States and Local Areas that operate the six core programs of the public workforce development system to comply with common performance accountability requirements for those programs, which are: The Adult, Dislocated Worker, and Youth programs (authorized under WIOA title I, administered by DOL); the Employment Service program authorized under the Wagner-Peyser Act, as amended by WIOA title III (administered by DOL); the Adult Education and Family Literacy Act (AEFLA) program (authorized under WIOA title II, administered by ED); and the Vocational Rehabilitation (VR) program authorized under title I of the Rehabilitation Act of 1973, as amended by WIOA title IV (administered by ED). As such, States and Local Areas that operate core programs must submit common performance data to demonstrate that specified performance levels are achieved. States and Local Areas report the common performance data through the “Workforce Innovation and Opportunity Act (WIOA) Common Performance Reporting” ICR (OMB Control No. 1205-0526).

In addition, and in accordance with WIOA sec. 122(b)(2), training providers that are eligible to receive funds from Adult and Dislocated Worker programs authorized under title I of WIOA (also known as “eligible training providers” or ETPs) must report data on outcomes achieved under those programs to the State(s) in which they are listed on the State ETP list. States then report the information submitted by ETPs to DOL. The information collection requirements applicable to ETPs are also contained in the “Workforce Innovation and Opportunity Act (WIOA) Common Performance Reporting” ICR.

Section 116(d)(1) of WIOA mandates that the Secretaries of Labor and Education develop a template for performance reports to be used by States, Local Boards, and ETPs for reporting on outcomes achieved by participants in the six core programs. Corresponding regulations for these data collection requirements, including which primary performance indicators apply for each core program, have been issued jointly by the Departments. See 81 FR 55792 (Aug. 19, 2016). The WIOA regulations became effective on October 18, 2016. These joint performance regulations can be found at: (1) 20 CFR part 677 (which covers the Adult and Dislocated Worker programs (20 CFR part 680), the Youth program (20 CFR part 681), and the Wagner-Peyser Act Employment Service program (20 CFR part 652)); (2) 34 CFR part 463, subpart I (which covers the AEFLA program); and (3) 34 CFR part 361, subpart E (which covers the VR program).

The data collection instruments covered in this ICR are necessary to meet the requirements of sec. 116 of WIOA. These information collection instruments were developed jointly by the Departments, and include: (1) The Joint Participant Individual Record Layout (PIRL), which provides a standardized set of data elements, definitions, and reporting instructions for use by States and local entities administering WIOA core programs; (2) the Statewide Performance Report Template, to be used for the reporting of data by State entities that administer WIOA core programs; (3) the Local Area Performance Report Template, to be used for the reporting of data by local entities that administer WIOA core programs; (4) the ETP Performance Report specifications and definitions, to be used for the reporting of data by eligible providers of training services under WIOA title I Adult and Dislocated Worker programs; and (5) the Annual Statewide Performance Report Narrative, a new information collection requirement to be used for providing information on the status and progress of workforce development program performance.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. In order to help ensure appropriate consideration, comments should mention Workforce Innovation and Opportunity Act (WIOA) Common Performance Reporting, OMB control number 1205-0526.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revision.

Title of Collection: Workforce Innovation and Opportunity Act (WIOA) Common Performance Reporting.

Forms: WIOA Statewide and Local Performance Report Template, ETA 9169; WIOA PIRL, ETA 9170; ETP Definitions, ETA 9171.

OMB Control Number: 1205-0526.

Affected Public: State, Local, and Tribal Governments; Private Sector—businesses or other for-profits and not-for-profit institutions.

Estimated Number of Respondents: 19,113,825.

Frequency: Annual for each form.

Total Estimated Annual Responses: 38,216,056.

Estimated Average Time per Response: Varies.

Estimated Total Annual Burden Hours: 9,863,065 hours.

Total Estimated Annual Other Cost Burden: $30,957,760.

Portia Wu,
Assistant Secretary for Employment and Training, Department of Labor.
Johan Uvin,
Acting Assistant Secretary for the Office of Career, Technical, and Adult Education, Department of Education.
Sue Swenson,
Deputy Assistant Secretary for Special Education and Rehabilitative Services, delegated the authority to perform the functions and duties of the Assistant Secretary for Special Education and Rehabilitative Services.

[FR Doc. 2017-01069 Filed 1-18-17; 8:45 am]

BILLING CODE 4510-FN-P